DEPARTMENT OF COMMERCE

International Trade Administration

[A-588-852]

Notice of Rescission of Antidumping Duty Administrative Review: Structural Steel Beams From Japan

AGENCY: Import Administration, International Trade Administration, Department of Commerce.

ACTION: Notice of rescission of the antidumping duty administrative review of structural steel beams from Japan.

SUMMARY: On July 23, 2001, the Department of Commerce (“Department”) published a notice of initiation of an antidumping duty administrative review on structural steel beams from Japan. This review covers six manufacturers/exporters of the subject merchandise. The period of review (“POR”) is February 11, 2000 through May 31, 2001. This review has now been rescinded as a result of a withdrawal of the request for administrative review by the interested parties.

EFFECTIVE DATE: September 7, 2001.

FOR FURTHER INFORMATION CONTACT: Juanita H. Chen or Jim Doyle, Enforcement Group III, Office 9, Import Administration, International Trade Administration, U.S. Department of Commerce, 1401 Constitution Avenue, NW., Washington, DC 20230, telephone 202-482-0409 (Chen) or 202-482-0159 (Doyle), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (2001).

Background

On June 19, 2000, the Department published the antidumping duty order on structural steel beams from Japan. See Structural Steel Beams from Japan: Notice of Antidumping Duty Order, 65 FR 37960 (June 19, 2000). On June 11, 2001, the Department published a notice of opportunity to request an administrative review of this order for the period February 11, 2000 through May 31, 2001. See Antidumping or Countervailing Duty Order, Finding, or Suspended Investigation; Opportunity to Request Administrative Review, 66 FR 31203 (June 11, 2001). Petitioners Northwestern Steel & Wire Company, Nucor-Yamato Steel Company, and TXI-Chaparral Steel, Inc. (collectively “petitioners”) timely requested that the Department conduct an administrative review of sales by Kawasaki Steel Corporation, Nippon Steel Corporation, NKK Corporation, Sumitomo Metal Industries, Ltd., Tokyo Steel Manufacturing Co., Ltd., and Topy Industries, Ltd., Japanese producers or exporters of subject merchandise. On July 23, 2001, in accordance with section 751(a) of the Act, the Department published in the Federal Register a notice of initiation of this antidumping duty administrative review. See Initiation of Antidumping and Countervailing Duty Administrative Reviews and Requests for Revocations in Part, 66 FR 38252 (July 23, 2001).

Rescission of Review

Petitioners timely withdrew their request for review on July 23, 2001. There were no other requests for administrative review from an interested party. As a result, in accordance with section 351.213(d)(1) of the Department's regulations, the Department is rescinding this administrative review.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 751(a)(1) of the Act.

Dated: August 29, 2001.
Joseph A. Spetrini,
Deputy Assistant Secretary, Enforcement Group III.

[FR Doc. 01-22555 Filed 9-6-01; 8:45 am]

BILLING CODE 3510-DS-P